ENVIRONMENTAL PROTECTION AGENCY

FRL-6564-1]

Proposed Agreement Pursuant to Section 122(h)(1) of the Comprehensive Environmental Response, Compensation, and Liability Act for the 7-7 Merger, Inc., Superfund Site

AGENCY: Environmental Protection Agency (“EPA”).

ACTION: Notice; Request for public comment on proposed CERCLA 122(h)(1) agreement with Weitron Steel Corporation; USX Corporation; Sloss Industries Corporation; Shenango Incorporated; Roanoke Gas Company; Republic Technologies International, L.L.C.; Reilly Industries, Inc.; Premier Refractories, Inc.; North Star Steel Company; Granite City Division of National Steel Corporation; Lone Star Steel Company; Koppers Industries, Inc.; Kaiser Ventures, Inc.; Honeywell International, Inc. (f/k/a Allied Signal Inc.); Columbia Gas of Pennsylvania, Inc.; Coopers Creek Chemical Corporation; ENCOAL Corporation; Bethlehem Steel Corporation; Aristech Chemical Corporation, and; AK Steel Corporation for the 7-7 Merger, Inc., Superfund Site.

SUMMARY: In accordance with section 122(i)(1) of the Comprehensive Environmental Response, Compensation and Liability Act of 1984, as amended (“CERCLA”), EPA hereby gives notice of a proposed administrative agreement concerning the 7-7 Merger Inc., hazardous waste site at 607 Freelander Road, Wooster, Wayne County, Ohio (the “Site”). EPA proposes to enter into this agreement under the authority of sections 106 and 122(h) of CERCLA. The proposed agreement has been executed by Weitron Steel Corporation; USX Corporation; Sloss Industries Corporation; Shenango Incorporated; Roanoke Gas Company; Republic Technologies International, L.L.C.; Reilly Industries, Inc.; Premier Refractories, Inc.; North Star Steel Company; Granite City Division of National Steel Corporation; Lone Star Steel Company; Koppers Industries, Inc.; Kaiser Ventures, Inc.; Honeywell International, Inc. (f/k/a Allied Signal Inc.); Columbia Gas of Pennsylvania, Inc.; Coopers Creek Chemical Corporation; ENCOAL Corporation; Bethlehem Steel Corporation; Aristech Chemical Corporation; and AK Steel Corporation (the “Settling Parties”).

Under the proposed agreement, the Settling Parties are resolving EPA's claims against them for response actions and EPA response and oversight costs at the site. The Settling Parties are conducting an emergency response at the site and paying to the Hazardous Substances Superfund all past response costs and costs of overseeing the emergency response to the extent that these costs exceed $150,000. EPA incurred response costs mitigating an imminent and substantial endangerment to human health or the environment, present or threatened by hazardous substances at the site. EPA also incurred and will incur response costs overseeing response activities conducted and to be conducted at the site by the Settling Parties. EPA is compromising $150,000 of its response costs based on EPA's Orphan Share Policy.

For thirty days following the date this notice is published, the EPA will receive written comments relating to this proposed agreement. EPA will consider all comments received and may decide not to enter this proposed agreement if comments disclose facts or considerations which indicate that the proposed agreement is inappropriate, improper or inadequate.

DATES: EPA must receive comments on the proposed agreement before April 28, 2000.

ADDRESSES: You should address comments to the Docket Clerk, U.S. Environmental Protection Agency, Region 5, 77 West Jackson Boulevard, Chicago, Illinois, 60604-3590, and should refer to: In the 7-7 Merger, Inc., Site, Wooster, Ohio, U.S. EPA Docket No. V-W-00-C-584.

FOR FURTHER INFORMATION CONTACT: Stuart P. Hersh, U.S. Environmental Protection Agency, Office of Regional Counsel, C-14J, 77 West Jackson Boulevard, Chicago, Illinois, 60604-3590, (312) 886-6235.

You may obtain a copy of the proposed administrative settlement agreement in person or by mail from the EPA's Region 5 Office of Regional Counsel, 77 West Jackson Boulevard, Chicago, Illinois, 60604-3590. Additional background information relating to the settlement is available for review at the EPA's Region 5 Office of Regional Counsel.

Authority: The Comprehensive Environmental Response, Compensation, and Liability Act, as amended, 42 U.S.C. 9601-9675.

Richard C. Karl,
Acting Director, Superfund Division, Region 5.

[FR Doc. 00-7626 Filed 3-27-00; 8:45 am]

BILLING CODE 6560-50-P